DEPARTMENT OF LABOR

Employment and Training Administration

[TA-W-62,190]

Steelcase Incorporated Grand Rapids, Michigan; Notice of Termination of Investigation

Pursuant to section 221 of the Trade Act of 1974, as amended, an investigation was initiated on September 24, 2007 in response to a petition filed by a company official on behalf of workers at Steelcase Incorporated, Grand Rapids, Michigan.

The petitioner has requested that the petition be withdrawn. Consequently, the investigation has been terminated.

Signed in Washington, DC, this 12th day of October 2007.
Linda G. Poole,
Certifying Officer, Division of Trade Adjustment Assistance.

[FR Doc. E7-20723 Filed 10-19-07; 8:45 am]

BILLING CODE 4510-FN-P